DEPARTMENT OF DEFENSE

Office of the Secretary

[Docket ID: DoD-2023-OS-0095]

Submission for OMB Review; Comment Request

AGENCY: All-domain Anomaly Resolution Office (AARO), Office of the Secretary of Defense (OSD), Department of Defense (DoD).

ACTION: Emergency information collection notice.

SUMMARY: Consistent with the Paperwork Reduction Act of 1995 and its implementing regulations, this document provides notice that DoD is submitting an Information Collection Request to the Office of Management and Budget (OMB). DoD requests emergency processing and OMB authorization to collect the information after publication of this notice for a period of six months.

DATES: Comments must be received by October 16, 2023.

ADDRESSES: The Department has requested emergency processing from OMB for this information collection request by 10 days after publication of this notice. Interested parties can access the supporting materials and collection instrument as well as submit comments and recommendations to OMB at www.reginfo.gov/public/do/PRAMain. Find this particular information collection by selecting “Currently under 10-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The AARO Contact Form for Authorized Reporting information collection will be used to gather contact information, to include Personally Identifiable Information (PII), from members of the public. The collection is necessary to enable the All-domain Anomaly Resolution Office (AARO), Office of the Secretary of Defense, Department of Defense, to meet its statutory requirements. FY23 NDAA, Section 1673, “Unidentified Anomalous Phenomena Reporting Procedures” requires that the Secretary of Defense “issue clear public guidance for how to securely access the mechanism for authorized reporting” no later than 180 days from enactment, which was June 2023. Furthermore, Section 1683 of the FY23 NDAA requires AARO to produce a Historical Record Report detailing the historical record of the United States government relating to unidentified anomalous phenomena (UAP). To meet this requirement, AARO relies on the “AARO Contact Form” to receive reports from individuals with knowledge of potential UAP programs.

Title; Associated Form; and OMB Number: AARO Contact Form for Authorized Reporting; OMB Control Number 0704-AARO.

Type of Request: New.

Number of Respondents: 2,500.

Responses per Respondent: 1.

Annual Responses: 2,500.

Average Burden per Response: 5 minutes.

Annual Burden Hours: 208.

Affected Public: Individuals or households.

Frequency: On occasion.

Respondent's Obligation: Voluntary.

Request for Comments

Comments are invited on: (1) Whether the proposed collection of information is necessary for the proper performance of the functions of DOD, including whether the information collected has practical utility; (2) the accuracy of DOD's estimate of the burden (including hours and cost) of the proposed collection of information; (3) ways to enhance the quality, utility, and clarity of the information to be collected; and (4) ways to minimize the burden of the collection of information on respondents, including automated collection techniques or the use of other forms of information technology.

Dated: September 29, 2023.
Aaron T. Siegel,
Alternate OSD Federal Register Liaison Officer, Department of Defense.

[FR Doc. 2023-22105 Filed 9-29-23; 4:15 pm]

BILLING CODE 5001-06-P